DEPARTMENT OF COMMERCE

Census Bureau

15 CFR Part 50

[Docket No. 260213-0046]

RIN 0607-AA73

Streamlining the Regulations Governing Requests for Special Census Services and Studies

AGENCY: Census Bureau, Department of Commerce (Department).

ACTION: Final rule.

SUMMARY: By this rule, the Census Bureau is amending its regulations governing requests and establishing fee structures for special census services and studies. This action is necessary to eliminate obsolete provision and streamline the Census Bureau's regulations. This action is intended to promote simplicity and efficiency and to reduce the possibility of public confusion.

DATES: The rule is effective February 20, 2026.

FOR FURTHER INFORMATION CONTACT: Daniel Sweeney, Senior Counsel, Office of the General Counsel, at (202) 482-1395.

SUPPLEMENTARY INFORMATION: This action amends the Census Bureau's regulations at 15 CFR part 50, which govern requests and establish fee structures for special census services and studies. The regulations at part 50 purport to implement 15 U.S.C. 1525, which generally authorizes the Secretary of Commerce to perform special services and furnish special records “upon the payment of the actual or estimated cost of such special work,” and 13 U.S.C. 8, which similarly authorizes the Secretary to furnish transcripts or copies of reports in connection with surveys and censuses “upon payment of the actual or estimated cost of searching the records and furnishing such transcripts or copies.” The regulatory framework established by part 50 was first promulgated by final rule on January 4, 1963 (28 FR 120), and was subsequently amended several times between then and 2004 (January 20, 1971, 36 FR 905; February 1, 1984, 49 FR 3980; July 29, 1991, 56 FR 35815; July 18, 2003, 68 FR 42586; July 30, 2004, 69 FR 45580). This action amends part 50 again in three ways.

First, this action removes § 50.1(a). That subsection currently reads as follows: “Fee structure for age search and citizenship service, special population censuses, and for foreign trade and shipping statistics.” Upon review, the Department has determined that this incomplete introductory sentence creates a risk of confusion and also is unnecessary, given the sufficiently explanatory contents of § 50.1(b) and other subsequent sections.

Second, this action removes § 50.30. That section established a fee structure for foreign trade and shipping statistics. However, that section is now obsolete, as the Census Bureau no longer charges fees for such services. The removal of § 50.30 will therefore ensure that the Census Bureau's regulations are accurate and up-to-date.

Third, this action removes § 50.40. That section established a fee structure for statistics for city blocks for the 1980 census of population and housing. That section is now plainly obsolete and no longer serves any meaningful purpose. The removal of § 50.40 will simplify part 50 and reduce the possibility of unnecessary confusion and/or distraction.

Overall, these three changes will simplify and streamline part 50 and reduce the possibility of public confusion—thereby promoting efficiency—without substantively altering any obligations of the Census Bureau or public rights.

Regulatory Classifications

A. Administrative Procedure Act

Pursuant to 5 U.S.C. 553(b)(B), the Department finds good cause to waive the prior notice and opportunity for public participation requirements of the Administrative Procedure Act for this final rule. The Department has determined that prior notice and opportunity for public participation is unnecessary because this rule only removes regulatory language that is not required by statute and that is plainly obsolete and/or clearly poses an unnecessary risk of public confusion; the obsolete and unnecessary nature of the regulatory language at issue will not be cured by any public comment. The Department has also determined that delaying the removal of this regulatory language for the sake of carrying out the notice and comment process would be contrary to the public interest, as the language being removed no longer serves any meaningful function but does pose a risk of confusion and distraction. The Department therefore finds good cause to waive the public notice and comment period under 553(b)(B) and, for the same reason, to waive the 30-day delay in effectiveness under 553(d).

B. Executive Orders 12866, 14192, 13132

The Office of Management and Budget has determined this rule is not significant pursuant to Executive Order (E.O.) 12866. This rule is an E.O. 14192 deregulatory action. This rule does not contain policies having federalism implications as the term is defined in E.O. 13132.

C. Regulatory Flexibility Act

Because a notice of proposed rulemaking and an opportunity for public participation are not required to be given for this rule by 5 U.S.C. 553(b)(B), the analytical requirements of the Regulatory Flexibility Act (5 U.S.C. 601 et seq.) are not applicable. Accordingly, no regulatory flexibility analysis is required, and none has been prepared.

D. Paperwork Reduction Act

This rule will not impose additional reporting or recordkeeping requirements under the Paperwork Reduction Act of 1995, 44 U.S.C. 3501 et seq.

List of Subjects in 15 CFR Part 50

Administrative practice and procedure, Census data, Citizenship and naturalization, Fees, Foreign trade, Reporting and recordkeeping requirements, State and local governments, Statistics.

George M. Cook, Chief of Staff to the Under Secretary for Economic Affairs, performing the non-exclusive functions and duties of the Director of the Census Bureau, approved the publication of this notice in the Federal Register.

For the reasons set forth in the preamble, the Census Bureau amends 15 CFR part 50 to read as follows:

PART 50—SPECIAL SERVICES AND STUDIES BY THE BUREAU OF THE CENSUS

1. The authority citation for part 50 continues to read as follows:

Authority: 15 U.S.C. 1525-1527 and 13 U.S.C. 3 and 8.

§ 50.1 [Amended]

2. Amend § 50.1 by removing and reserving paragraph (a).

§ 50.30 [Removed and Reserved]

3. Remove and reserve § 50.30.

§ 50.40 [Removed and Reserved]

4. Remove and reserve § 50.40.

Dated: February 17, 2026.
Shannon Wink,
Program Analyst, Policy Coordination Office, U.S. Census Bureau.

[FR Doc. 2026-03384 Filed 2-19-26; 8:45 am]

BILLING CODE 3510-07-P